FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 17304NF.

Name: Direct Worldwide Logistics, Inc.

Address: 7520 Lawndale Avenue, Houston, TX 77012.

Date Revoked: March 20, 2003.

Reason: Surrendered license voluntarily.

License Number: 15898N.

Name: FSL International Inc.

Address: 12616 So. Yukon Avenue, Hawthorne, CA 90250.

Date Revoked: February 19, 2003.

Reason: Surrendered license voluntarily.

Sandra L. Kusumoto,
Director, Bureau of Consumer Complaints and Licensing.

[FR Doc. 03-9312 Filed 4-15-03; 8:45 am]

BILLING CODE 6730-01-P